FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

Aaron P.B. Production Corporation (NVO & OFF), 501 New County Road, Secaucus, NJ 07094, Officers: Mariusz Piwowarczuk, Vice President (Qualifying Individual), Czeslaw Golaszewski, Dir./Pres./Sec./Treas., Application Type: New NVO & OFF License

Aerocosta Global Group, Inc. dba Aerocosta Global Systems Inc. (NVO), 2463 208th Street, #205, Torrance, CA 90501, Officers: Edward H. Lee, Secretary (Qualifying Individual), Darren Kim, Chairman/President/CFO, Application Type: New NVO License

Baron Worldwide, Inc. (OFF), 5282 S. Newton Street, Littleton, CO 80123, Officers: Misha B. Schryer, President, Jim Stewart, Secretary/Treasurer, (Qualifying Individuals), Application Type: QI Change

BYTR International, Inc. (NVO & OFF), 13152 Rivergate Trail West, Jacksonville, FL 32223, Officer: Bahtiyar Yurdakul, President/Secretary/Treasurer (Qualifying Individual), Application Type: Add NVO Service

Interchez Global Services, Inc. (NVO & OFF), 600 Alpha Parkway, Stow, OH 44224, Officers: Radhika Mulastanam, Vice President Marketing (Qualifying Individual), Sharlene Chesnes, EVP/COB/EVP/Secretary, Application Type: QI Change

IAL Container Line (USA) Inc. (NVO & OFF), 50 Cragwood Road, Suite 115, South Plainfield, NJ 07080, Officers: Peter George, Vice President (Qualifying Individual), Arjun Menon, Director, Application Type: QI Change

LTA Import & Export, Inc. (NVO & OFF), 14331 SW 120th Street, #203, Miami, FL 33186, Officers: Eric E. Diaz, Director of Sales & Marketing (Qualifying Individual), Annette Trimino, President, Application Type: New NVO & OFF License

Max Intertrade, Inc. (OFF & NVO), 4471 N.W. 36th Street, #203, Miami, FL 33166, Officer: Maite Rodriguez-Blanco, President/Secretary/Treasurer (Qualifying Individual), Application Type: Add NVO Service

Montgomery International Inc. (OFF), 341 Erickson Avenue, P.O. Box 124, Essington, PA 19029, Officers: Ari M. Bobrow, Export Manager (Qualifying Individual), Jimmy Montgomery, President, Application Type: New OFF License

Myunghe Choi dba World Express Shipping (NVO), 4733 Torrance Blvd., #187, Torrance, CA 90503, Officer: Myunghe Choi, Sole Proprietor (Qualifying Individual), Application Type: New NVO License

Praxis SCM, LLC (NVO & OFF), 5725 Paradise Drive, #1000, Corte Madera, CA 94925, Officers: Chuck Patton, Vice President (Qualifying Individual), George W. Pasha, IV, Member/President/CEO, Application Type: New NVO & OFF License

RDD Freight International (Dallas) Inc. (OFF), 3400 Silverstone Drive, #190, Plano, TX 75023, Officers: Shan Sun, President (Qualifying Individual), Lang Zhang, Secretary, Application Type: New OFF License

Sea Star Logistics, Inc. (NVO), 729 E. Grand Avenue, Suite D, San Gabriel, CA 91776, Officers: Lee Wong, Secretary/Treasurer/CFO (Qualifying Individual), Victor L. Sheng, Director/President/CEO, Application Type: New NVO License

The Logistics Solutions, LLC (NVO & OFF), 2828 E. Trinity Mills Road, #360, Carrollton, TX 75006, Officers: Hani A. Bekdash, Director of International Logistics (Qualifying Individual), Wasem Demashkiah, Director of Operations, Application Type: New NVO & OFF License

Whale Logistics, LLC (NVO), 84-43 Penelope Avenue, New York, NY 11379, Officer: Bonnie Ta, Member (Qualifying Individual), Application Type: New NVO License

Dated: September 24, 2010.
Rachel E. Dickon,
Assistant Secretary.

[FR Doc. 2010-24410 Filed 9-28-10; 8:45 am]

BILLING CODE P